ENVIRONMENTAL PROTECTION AGENCY

40 CFR Part 52

[FRL-8933-5]

Approval and Promulgation of Air Quality Implementation Plans; Iowa; Update to Materials Incorporated by Reference

AGENCY: Environmental Protection Agency (EPA).

ACTION: Final rule; notice of administrative change.

SUMMARY: EPA is updating the materials submitted by Iowa that are incorporated by reference (IBR) into the State implementation plan (SIP). The regulations affected by this update have been previously submitted by the State agency and approved by EPA. This update affects the SIP materials that are available for public inspection at the National Archives and Records Administration (NARA), the Air and Radiation Docket and Information Center located at EPA Headquarters in Washington, DC, and the Regional Office.

DATES: Effective Date: This action is effective July 29, 2009.

ADDRESSES: SIP materials which are incorporated by reference into 40 CFR part 52 are available for inspection at the following locations: Environmental Protection Agency, Region 7, 901 North 5th Street, Kansas City, Kansas 66101; or at http://www.epa.gov/region07/programs/artd/air/rules/fedapprv.htm; the Air and Radiation Docket and Information Center, EPA Headquarters Library, Room Number 3334, EPA West Building, 1301 Constitution Avenue, NW., Washington, DC 20460, and the National Archives and Records Administration. If you wish to obtain materials from a docket in the EPA Headquarters Library, please call the Office of Air and Radiation Docket at (202) 566-1742. For information on the availability of this material at NARA, call (202) 741-6030, or go to: http://www.archives.gov/federal_register/code_of_federal_regulations/ibr_locations.html.

FOR FURTHER INFORMATION CONTACT: Evelyn VanGoethem at (913) 551-7659, or by e-mail at vangoethem.evelyn@epa.gov.

SUPPLEMENTARY INFORMATION: The SIP is a living document which the State revises as necessary to address the unique air pollution problems in the State. Therefore, EPA from time to time must take action on SIP revisions containing new and/or revised regulations to make them part of the SIP. On May 22, 1997 (62 FR 27968), EPA revised the procedures for incorporating by reference Federally approved SIPs, as a result of consultations between EPA and the Office of the Federal Register. The description of the revised SIP document, IBR procedures and “Identification of plan” format are discussed in further detail in the May 22, 1997, Federal Register document.

On February 12, 1999, EPA published a document in the Federal Register (64 FR 7091) beginning the new IBR procedure for Iowa. On September 23, 2004 (69 FR 56942), EPA published an update to the IBR material for Iowa.

In this document, EPA is doing the following:

1. Announcing the update to the IBR material as of July 1, 2009.

2. Correcting the date format in the “State effective date” or “State Submittal date” and “EPA approval date” columns in § 52.820 paragraphs (c), (d) and (e). Dates are numerical month/day/year without additional zeros.

3. Modifying the Federal Register citation in § 52.820 paragraphs (c), (d) and (e) to reflect the beginning page of the preamble as opposed to the page number of the regulatory text.

4. Removing the second entry for 567-22.4 in § 52.820 paragraph (c) under Chapter 22.

EPA has determined that today's rule falls under the “good cause” exemption in section 553(b)(3)(B) of the Administrative Procedures Act (APA) which, upon finding “good cause,” authorizes agencies to dispense with public participation and section 553(d)(3), which allows an agency to make a rule effective immediately (thereby avoiding the 30-day delayed effective date otherwise provided for in the APA). Today's rule simply codifies provisions which are already in effect as a matter of law in Federal and approved State programs. Under section 553 of the APA, an agency may find good cause where procedures are “impractical, unnecessary, or contrary to the public interest.” Public comment is “unnecessary” and “contrary to the public interest” since the codification only reflects existing law. Immediate notice in the CFR benefits the public by providing notice of the updated Iowa SIP compilation.

Statutory and Executive Order Reviews

Under the Clean Air Act, the Administrator is required to approve a SIP submission that complies with the provisions of the Act and applicable Federal regulations. 42 U.S.C. 7410(k); 40 CFR 52.02(a). Thus, in reviewing SIP submissions, EPA's role is to approve State choices, provided that they meet the criteria of the Clean Air Act. Accordingly, this action merely approves State law as meeting Federal requirements and does not impose additional requirements beyond those imposed by State law. For that reason, this action:

• Is not a “significant regulatory action” subject to review by the Office of Management and Budget under Executive Order 12866 (58 FR 51735, October 4, 1993);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the Clean Air Act; and

• Does not provide EPA with the discretionary authority to address, as appropriate, disproportionate human health or environmental effects, using practicable and legally permissible methods, under Executive Order 12898 (59 FR 7629, February 16, 1994).

In addition, this rule does not have tribal implications as specified by Executive Order 13175 (65 FR 67249, November 9, 2000), because the SIP is not approved to apply in Indian country located in the State, and EPA notes that it will not impose substantial direct costs on tribal governments or preempt tribal law.

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

EPA has also determined that the provisions of section 307(b)(1) of the Clean Air Act pertaining to petitions for judicial review are not applicable to this action. This action is simply an announcement of prior rulemakings that have previously undergone notice and comment. Prior EPA rulemaking actions for each individual component of the Iowa SIP compilation previously afforded interested parties the opportunity to file a petition for judicial review in the United States Court of Appeals for the appropriate circuit within 60 days of such rulemaking action.

List of Subjects in 40 CFR Part 52

Environmental protection, Air pollution control, Carbon monoxide, Incorporation by reference, Intergovernmental relations, Lead, Nitrogen dioxide, Ozone, Particulate matter, Reporting and recordkeeping requirements, Sulfur oxides, Volatile organic compounds.

Dated: July 8, 2009.
William Rice,
Acting Regional Administrator, Region 7.

40 CFR part 52 is amended as follows:

PART 52—[AMENDED]

1. The authority for citation for part 52 continues to read as follows:

Authority: 42 U.S.C. 7401 et seq.

Subpart Q—Iowa

2. In § 52.820 paragraphs (b), (c), (d) and (e) are revised to read as follows:

§ 52.820 Identification of plan.

* * * * *

(b) Incorporation by reference. (1) Material listed in paragraphs (c) and (d) of this section with an EPA approval date prior to July 1, 2009, was approved for incorporation by reference by the Director of the Federal Register in accordance with 5 U.S.C. 552(a) and 1 CFR part 51. Material is incorporated as it exists on the date of the approval, and notice of any change in the material will be published in the Federal Register. Entries in paragraphs (c) and (d) of this section with EPA approval dates after July 1, 2009, will be incorporated by reference in the next update to the SIP compilation.

(2) EPA Region 7 certifies that the rules/regulations provided by EPA in the SIP compilation at the addresses in paragraph (b)(3) of this section are an exact duplicate of the officially promulgated State rules/regulations which have been approved as part of the SIP as of July 1, 2009.

(3) Copies of the materials incorporated by reference may be inspected at the Environmental Protection Agency, Region 7, Air Planning and Development Branch, 901 North 5th Street, Kansas City, Kansas 66101; at the EPA, Air and Radiation Docket and Information Center, Room Number 3334, EPA West Building, 1301 Constitution Avenue, NW., Washington, DC 20460; or at the National Archives and Records Administration (NARA). If you wish to obtain material from the EPA Regional Office, please call (913) 551-7659; for material from a docket in EPA Headquarters Library, please call the Office of Air and Radiation Docket at (202) 566-1742. For information on the availability of this material at NARA, call (202) 741-6030, or go to: http://www.archives.gov/federal_register/code_of_federal_regulations/ibr_locations.html.

(c) EPA-approved regulations.

EPA-Approved Iowa Regulations
Iowa citation | Title | State effective date | EPA approval date | Explanation
Iowa Department of Natural Resources Environmental Protection Commission [567]
Chapter 20—Scope of Title-Definitions-Forms-Rule of Practice
567-20.1 | Scope of Title | N/A | 8/6/07, 72 FR 43539 | This rule is a non-substantive description of the Chapters contained in the Iowa rules. EPA has not approved all of the Chapters to which this rule refers.
567-20.2 | Definitions | 3/19/08 | 8/25/08, 73 FR 49950 | The definitions for anaerobic lagoon, odor, odorous substance, and odorous substance source, are not SIP approved.
567-20.3 | Air Quality Forms Generally | 4/24/02 | 3/7/03, 68 FR 10969 |
Chapter 21—Compliance
567-21.1 | Compliance Schedule | 7/12/06 | 8/6/07, 72 FR 43539
567-21.2 | Variances | 4/4/07 | 10/16/07, 72 FR 58535
567-21.3 | Emission Reduction Program | 3/14/90 | 6/29/90, 55 FR 26690
567-21.4 | Circumvention of Rules | 3/14/90 | 6/29/90, 55 FR 26690
567-21.5 | Evidence Used in Establishing That a Violation Has or Is Occurring | 11/16/94 | 10/30/95, 60 FR 55198
Chapter 22—Controlling Pollution
567-22.1 | Permits Required for New or Existing Stationary Sources | 3/19/08 | 8/25/08, 73 FR 49950
567-22.2 | Processing Permit Applications | 4/9/97 | 6/25/98, 63 FR 34600
567-22.3 | Issuing Permits | 7/13/05 | 12/20/05, 70 FR 75399 | Subrule 22.3(6) is not SIP approved.
567-22.4 | Special Requirements for Major Stationary Sources Located in Areas Designated Attainment or Unclassified (PSD) | 11/1/06 | 5/14/07, 72 FR 27056
567-22.5 | Special Requirements for Nonattainment Areas | 7/21/99 | 3/4/02, 67 FR 9591
567-22.8 | Permit by Rule | 7/21/99 | 3/4/02, 67 FR 9591
567-22.9 | Special Requirements for Visibility Protection | 4/20/05 | 9/13/05, 70 FR 53939
567-22.10 | Permitting Requirements for Country Grain Elevators, Country Grain Terminal Elevators, Grain Terminal Elevators and Feed Mill Equipment | 3/19/08 | 8/25/08, 49950
567-22.105 | Title V Permit Applications | 11/16/94 | 10/30/95, 60 FR 55198 | Only subparagraph (2)i(5) is included in the SIP.
567-22.200 | Definitions for Voluntary Operating Permits | 10/18/95 | 4/30/96, 61 FR 18958
567-22.201 | Eligibility for Voluntary Operating Permits | 4/4/07 | 10/16/07, 72 FR 58535
567-22.202 | Requirement To Have a Title V Permit | 4/9/97 | 6/25/98, 63 FR 34600
567-22.203 | Voluntary Operating Permit Applications | 10/14/98 | 3/4/02, 67 FR 9591
567-22.204 | Voluntary Operating Permit Fees | 12/14/94 | 4/30/96, 61 FR 18958
567-22.205 | Voluntary Operating Permit Processing Procedures | 12/14/94 | 4/30/96, 61 FR 18958
567-22.206 | Permit Content | 10/18/95 | 4/30/96, 61 FR 18958
567-22.207 | Relation to Construction Permits | 12/14/94 | 4/30/96, 61 FR 18958
567-22.208 | Suspension, Termination, and Revocation of Voluntary Operating Permits | 12/14/94 | 4/30/96, 61 FR 18958
567-22.209 | Change of Ownership for Facilities With Voluntary Operating Permits | 7/13/05 | 12/20/05, 70 FR 75399
567-22.300 | Operating Permit by Rule for Small Sources | 4/4/07 | 10/16/07, 72 FR 58535
Chapter 23—Emission Standards for Contaminants
567-23.1 | Emission Standards | 10/14/98 | 5/22/00, 65 FR 32030 | Subrules 23.1(2)-(5) are not SIP approved.
567-23.2 | Open Burning | 1/14/04 | 11/3/04, 69 FR 63945 | Subrule 23.2(3)g(2) was not submitted for approval. Variances from open burning rule 23.2(2) are subject to EPA approval.
567-23.3 | Specific Contaminants | 12/15/04 | 5/31/07, 72 FR 30275 | Subrule 23.3(3) “(d)” is not SIP approved.
567-23.4 | Specific Processes | 3/19/08 | 8/25/08, 73 FR 49950 | Subrule 23.4(10) is not SIP approved.
Chapter 24—Excess Emissions
567-24.1 | Excess Emission Reporting | 5/13/98 | 5/22/00, 65 FR 32030
567-24.2 | Maintenance and Repair Requirements | 3/14/90 | 6/29/90, 55 FR 26690
Chapter 25—Measurement of Emissions
567-25.1 | Testing and Sampling of New and Existing Equipment | 4/4/07 | 10/16/07, 72 FR 58535
Chapter 26—Prevention of Air Pollution Emergency Episodes
567-26.1 | General | 3/14/90 | 6/29/90, 55 FR 26690
567-26.2 | Episode Criteria | 3/14/90 | 6/29/90, 55 FR 26690
567-26.3 | Preplanned Abatement Strategies | 3/14/90 | 6/29/90, 55 FR 26690
567-26.4 | Actions During Episodes | 3/14/90 | 6/29/90, 55 FR 26690
Chapter 27—Certificate of Acceptance
567-27.1 | General | 3/14/90 | 6/29/90, 55 FR 26690
567-27.2 | Certificate of Acceptance | 3/14/90 | 6/29/90, 55 FR 26690
567-27.3 | Ordinance or Regulations | 3/14/90 | 6/29/90, 55 FR 26690
567-27.4 | Administrative Organization | 3/14/90 | 6/29/90, 55 FR 26690
567-27.5 | Program Activities | 3/14/90 | 6/29/90, 55 FR 26690
Chapter 28—Ambient Air Quality Standards
567-28.1 | Statewide Standards | 3/14/90 | 6/29/90, 55 FR 26690
Chapter 29—Qualification in Visual Determination of the Opacity of Emissions
567-29.1 | Methodology and Qualified Observer | 5/13/98 | 5/22/00, 65 FR 32030
Chapter 31—Nonattainment Areas
567-31.1 | Permit Requirements Relating to Nonattainment Areas | 2/22/95 | 10/23/97, 62 FR 55172
567-31.2 | Conformity of General Federal Actions to the Iowa SIP or Federal Implementation Plan | 5/3/98 | 5/22/00, 65 FR 32030
Chapter 33—Special Regulations and Construction Permit Requirements for Major Stationary Sources—Prevention of Significant Deterioration (PSD) of Air Quality
567-33.1 | Purpose | 11/1/06 | 5/14/07, 72 FR 27056
567-33.2 | Reserved | 11/1/06 | 5/14/07, 72 FR 27056
567-33.3 | Special Construction Permit Requirements for Major Stationary Sources in Areas Designated Attainment or Unclassified (PSD) | 11/1/06 | 5/14/07, 72 FR 27056
567-33.4 to 567-33.8 | Reserved | 11/1/06 | 5/14/07, 72 FR 27056
567-33.9 | Plantwide Applicability Limitations (PALs) | 11/1/06 | 5/14/07, 72 FR 27056
567-33.10 | Exceptions to Adoption by Reference | 11/1/06 | 5/14/07, 72 FR 27056
Chapter 34—Provisions for Air Quality Emissions Trading Programs
567-34.1 | Purpose | 7/12/06 | 8/6/07, 72 FR 43539
567-34.2 to 567-34.199 | Reserved | 7/12/06 | 8/6/07, 72 FR 43539
567-34.201 | CAIR NOX Annual Trading Program Provisions | 11/28/07 | 4/15/08, 73 FR 20177
567-34.202 | CAIR Designated Representative for CAIR NOX Sources | 7/12/06 | 8/6/07, 72 FR 43539
567-34.203 | Permits | 7/12/06 | 8/6/07, 72 FR 43539
567-34.204 | Reserved | 7/12/06 | 8/6/07, 72 FR 43539
567-34.205 | CAIR NOX Allowance Allocations | 7/12/06 | 8/6/07, 72 FR 43539
567-34.206 | CAIR NOX Allowance Tracking System | 7/12/06 | 8/6/07, 72 FR 43539
567-34.207 | CAIR NOX Allowance Transfers | 7/12/06 | 8/6/07, 72 FR 43539
567-34.208 | Monitoring and Reporting | 7/12/06 | 8/6/07, 72 FR 43539
567-34.209 | CAIR NOX Opt-in Units | 7/12/06 | 8/6/07, 72 FR 43539
567-34.210 | CAIR SO2 Trading Program | 11/28/07 | 4/15/08, 73 FR 20177
567-34.211 to 567-34.219 | Reserved | 7/12/06 | 8/6/07, 72 FR 43539
567-34.220 | CAIR NOX Ozone Season Trading Program | 7/12/06 | 8/6/07, 72 FR 43539
567-34.221 | CAIR NOX Ozone Season Trading Program General | 11/28/07 | 4/15/08, 73 FR 20177
567-34.222 | CAIR Designated Representative for CAIR NOX Ozone Season Sources | 7/12/06 | 8/6/07, 72 FR 43539
567-34.223 | CAIR NOX Ozone Season Permits | 7/12/06 | 8/6/07, 72 FR 43539
567-34.224 | Reserved | 7/12/06 | 8/6/07, 72 FR 43539
567-34.225 | CAIR NOX Ozone Season Allowance Allocations | 7/12/06 | 8/6/07, 72 FR 43539
567-34.226 | CAIR NOX Ozone Season Allowance Tracking System | 7/12/06 | 8/6/07, 72 FR 43539
567-34.227 | CAIR NOX Ozone Season Allowance Transfers | 7/12/06 | 8/6/07, 72 FR 43539
567-34.228 | CAIR NOX Ozone Season Monitoring and Reporting | 7/12/06 | 8/6/07, 72 FR 43539
567-34.229 | CAIR NOX Ozone Season Opt-in Units | 7/12/06 | 8/6/07, 72 FR 43539
Linn County
Chapter 10 | Linn County Air Quality Ordinance, Chapter 10 | 3/1/05 | 8/16/05, 70 FR 48073 | 10.2, Definitions of Federally Enforceable, Maximum Achievable Control Technology (MACT), and MACT floor; 10.4(1), Title V Permits; 19.9(2), NSPS; 19.9(3), Emission Standards for HAPs; 19.9(4), Emission Standards for HAPs for Source Categories; 10.11, Emission of objectionable odors; and, 10.15, Variances are not a part of the SIP.
Polk County
Chapter V | Polk County Board of Health Rules and Regulations Air Pollution Chapter V | 11/7/06 | 6/26/07, 72 FR 35018 | Article I, Section 5-2, definition of “variance”; Article VI, Sections 5-16(n), (o) and (p); Article VIII, Article IX, Sections 5-27(3) and (4); Article XIII, and Article XVI, Section 5-75(b) are not a part of the SIP. Article X, Section 5-28 has a State effective date of 8/24/05.

(d) EPA-approved State source-specific permits.

EPA-Approved Iowa Source-Specific Orders/Permits
Name of source | Order/permit No. | State effective date | EPA approval date | Explanation
(1) Archer-Daniels Midland Company | 90-AQ-10 | 3/25/91 | 11/1/91, 56 FR 56158 |
(2) Interstate Power Company | 89-AQ-04 | 2/21/90 | 11/1/91, 56 FR 56158 |
(3) Grain Processing Corporation | 74-A-015-S | 9/18/95 | 12/1/97, 62 FR 63454 |
(4) Grain Processing Corporation | 79-A-194-S | 9/18/95 | 12/1/97, 62 FR 63454 |
(5) Grain Processing Corporation | 79-A-195-S | 9/18/95 | 12/1/97, 62 FR 63454 |
(6) Grain Processing Corporation | 95-A-374 | 9/18/95 | 12/1/97, 62 FR 63454 |
(7) Muscatine Power and Water | 74-A-175-S | 9/14/95 | 12/1/97, 62 FR 63454 |
(8) Muscatine Power and Water | 95-A-373 | 9/14/95 | 12/1/97, 62 FR 63454 |
(9) Monsanto Corporation | 76-A-161S3 | 7/18/96 | 12/1/97, 62 FR 63454 |
(10) Monsanto Corporation | 76-A-265S3 | 7/18/96 | 12/1/97, 62 FR 63454 |
(11) IES Utilities, Inc | 97-AQ-20 | 11/20/98 | 3/11/99, 64 FR 12087 | SO2 Control Plan for Cedar Rapids.
(12) Archer-Daniels-Midland Corporation | SO2 Emission Control Plan | 9/14/98 | 3/11/99, 64 FR 12087 | ADM Corn Processing SO2 Control Plan for Cedar Rapids.
(13) Linwood Mining and Minerals Corporation | 98-AQ-07 | 3/13/98 | 3/18/99, 64 FR 13343 | PM10 control plan for Buffalo.
(14) Lafarge Corporation | 98-AQ-08 | 3/13/98 | 3/18/99, 64 FR 13343 | PM10 control plan for Buffalo.
(15) Holnam, Inc | A.C.O. 1999-AQ-31 | 9/2/99 | 11/6/02, 67 FR 67563 | For a list of the 47 permits issued for individual emission points see IDNR letters to Holnam, Inc., dated 7/24/01.
(16) Holnam, Inc | Consent Amendment to A.C.O. 1999-AQ-31 | 5/16/01 | 11/6/02, 67 FR 67563 | For a list of the 47 permits issued for individual emission points see IDNR letters to Holnam, Inc., dated 7/24/01.
(17) Holnam, Inc | Permits for 17-01-009, Project Nos. 99-511 and 00-468 | 7/24/01 | 11/6/02, 67 FR 67563 | For a list of the 47 permits issued for individual emission points see IDNR letters to Holnam, Inc., dated 7/24/01.
(18) Lehigh Portland Cement Company | A.C.O. 1999-AQ-32 | 9/2/99 | 11/6/02, 67 FR 67563 | For a list of the 41 permits issued for individual emission points see IDNR letters to Lehigh dated 7/24/01 and 2/18/02.
(19) Lehigh Portland Cement Company | Permits for plant No. 17-01-005, Project Nos. 99-631 and 02-037 | 2/18/02 | 11/6/02, 67 FR 67563 | For a list of the 41 permits issued for individual emission points see IDNR letters to Lehigh dated 7/24/01 and 2/18/02.
(20) Blackhawk Foundry and Machine Company | A.C.O. 03-AQ-51 | 12/4/03 | 6/10/04, 69 FR 32454 | Together with the permits listed below this order comprises the PM10 control strategy for Davenport, Iowa.
(21) Blackhawk Foundry and Machine Company | Permit No. 02-A-116 (Cold Box Core Machine) | 8/19/02 | 6/10/04, 69 FR 32454 | Provisions of the permit that relate to pollutants other than PM10 are not approved by EPA as part of this SIP.
(22) Blackhawk Foundry and Machine Company | Permit No. 02-A-290 (Wheelabrator #2 and Casting Sorting) | 8/19/02 | 6/10/04, 69 FR 32454 | Provisions of the permit that relate to pollutants other than PM10 are not approved by EPA as part of this SIP.
(23) Blackhawk Foundry and Machine Company | Permit No. 02-A-291 (Mold Sand Silo) | 8/19/02 | 6/10/04, 69 FR 32454 | Provisions of the permit that relate to pollutants other than PM10 are not approved by EPA as part of this SIP.
(24) Blackhawk Foundry and Machine Company | Permit No. 02-A-292 (Bond Storage) | 8/19/02 | 6/10/04, 69 FR 32454 | Provisions of the permit that relate to pollutants other than PM10 are not approved by EPA as part of this SIP.
(25) Blackhawk Foundry and Machine Company | Permit No. 02-A-293 (Induction Furnace and Aluminum Sweat Furnace) | 8/19/02 | 6/10/04, 69 FR 32454 | Provisions of the permit that relate to pollutants other than PM10 are not approved by EPA as part of this SIP.
(26) Blackhawk Foundry and Machine Company | Permit No. 77-A-114-S1 (Wheelabrator #1 & Grinding) | 8/19/02 | 6/10/04, 69 FR 32454 | Provisions of the permit that relate to pollutants other than PM10 are not approved by EPA as part of this SIP.
(27) Blackhawk Foundry and Machine Company | Permit No. 84-A-055-S1 (Cupola ladle, Pour deck ladle, Sand shakeout, Muller, Return sand #1, Sand cooler, Sand screen, and Return sand #2) | 8/19/02 | 6/10/04, 69 FR 32454 | Provisions of the permit that relate to pollutants other than PM10 are not approved by EPA as part of this SIP.
(28) Blackhawk Foundry and Machine Company | Permit No. 72-A-060-S5 (Cupola) | 8/19/02 | 6/10/04, 69 FR 32454 | Provisions of the permit that relate to pollutants other than PM10 are not approved by EPA as part of this SIP.

(e) The EPA-approved nonregulatory provisions and quasi-regulatory measures.

EPA-Approved Iowa Nonregulatory Provisions
Name of nonregulatory SIP provision | Applicable geographic or nonattainment area | State submittal date | EPA approval date | Explanation
(1) Air Pollution Control Implementation Plan | Statewide | 1/27/72 | 5/31/72, 37 FR 10842
(2) Request for a Two Year Extension to Meet the NAAQS | Council Bluffs | 1/27/72 | 5/31/72, 37 FR 10842 | Correction notice published 3/2/76.
(3) Revisions to Appendices D and G | Statewide | 2/2/72 | 5/31/72, 37 FR 10842 | Correction notice published 3/2/76.
(4) Source Surveillance and Record Maintenance Statements | Statewide | 4/14/72 | 3/2/76, 41 FR 8960
(5) Statement Regarding Public Availability of Emissions Data | Statewide | 5/2/72 | 3/2/76, 41 FR 8960
(7) Letter Describing the Certificates of Acceptance for Local Air Pollution Control Programs | Linn County, Polk County | 12/14/72 | 10/1/76, 41 FR 43407
(8) High Air Pollution Episode Contingency Plan | Statewide | 6/20/73 | 10/1/76, 41 FR 43407
(9) Summary of Public Hearing on Revised Rules Which Were Submitted on July 17, 1975 | Statewide | 9/3/75 | 10/1/76, 41 FR 43407
(10) Air Quality Modeling to Support Sulfur Dioxide Emission Standards | Statewide | 3/4/77 | 6/1/77, 42 FR 27892
(11) Nonattainment Plans | Mason City, Davenport, Cedar Rapids, Des Moines | 6/22/79 | 3/6/80, 45 FR 14561
(12) Information on VOC Sources to Support the Nonattainment Plan | Linn County | 10/8/79 | 3/6/80, 45 FR 14561
(13) Information and Commitments Pertaining to Legally Enforceable RACT Rules to Support the Nonattainment Plan | Linn County | 11/16/79 | 3/6/80, 45 FR 14561
(14) Lead Plan | Statewide | 8/19/80 | 3/20/81, 46 FR 17778
(15) Letter to Support the Lead Plan | Statewide | 1/19/81 | 3/20/81, 46 FR 17778
(16) Nonattainment Plans to Attain Secondary Standards | Mason City, Cedar Rapids, Des Moines, Davenport, Keokuk, Council Bluffs, Fort Dodge, Sioux City, Clinton, Marshalltown, Muscatine, Waterloo | 4/18/80 | 4/17/81, 46 FR 22372
(17) Information to Support the Particulate Matter Nonattainment Plan | Mason City, Cedar Rapids, Des Moines, Davenport, Keokuk, Council Bluffs, Fort Dodge, Sioux City, Clinton, Marshalltown, Muscatine, Waterloo | 9/16/80 | 4/17/81, 46 FR 22372
(18) Information to Support the Particulate Matter Nonattainment Plan | Mason City, Cedar Rapids, Des Moines, Davenport, Keokuk, Council Bluffs, Fort Dodge, Sioux City, Clinton, Marshalltown, Muscatine, Waterloo | 11/17/80 | 4/17/81, 46 FR 22372
(19) Schedule for Studying Nontraditional Sources of Particulate Matter and for Implementing the Results | Mason City, Cedar Rapids, Des Moines, Davenport, Keokuk, Council Bluffs, Fort Dodge, Sioux City, Clinton, Marshalltown, Muscatine, Waterloo | 6/26/81 | 3/5/82, 47 FR 9462
(20) Air Monitoring Strategy | Statewide | 7/15/81 | 4/12/82, 47 FR 15583
(21) Letter of Commitment to Revise Unapprovable Portions of Chapter 22 | Statewide | 5/14/85 | 9/12/85, 50 FR 37176
(22) Letter of Commitment to Submit Stack Height Regulations and to Implement the EPA's Regulations until the State's Rules Are Approved | Statewide | 4/22/86 | 7/11/86, 51 FR 25199
(23) Letter of Commitment to Implement the Stack Height Regulations in a Manner Consistent with the EPA's Stack Height Regulations with Respect to NSR/PSD Regulations | Statewide | 4/22/87 | 6/26/87, 52 FR 23981
(24) PM10 SIP | Statewide | 10/28/88 | 8/15/89, 54 FR 33536
(25) Letter Pertaining to NOX Rules and Analysis Which Certifies the Material Was Adopted by the State on October 17, 1990 | Statewide | 11/8/90 | 2/13/91, 56 FR 5757
(26) SO2 Plan | Clinton | 3/13/91 | 11/1/91, 56 FR 56158
(27) Letter Withdrawing Variance Provisions | Polk County | 10/23/91 | 11/29/91, 56 FR 60924 | Correction notice published 1/26/93.
(28) Letter Concerning Open Burning Exemptions | Statewide | 10/3/91 | 1/22/92, 57 FR 2472
(29) Compliance Sampling Manual | Statewide | 1/5/93 | 5/12/93, 58 FR 27939
(30) Small Business Assistance Plan | Statewide | 12/22/92 | 9/27/93, 58 FR 50266
(31) Voluntary Operating Permit Program | Statewide | 12/8/94 2/16/96 2/27/96 | 4/30/96, 61 FR 18958
(32) SO2 Plan | Muscatine | 6/19/96 5/21/97 | 12/1/97, 62 FR 63454
(33) SO2 Maintenance Plan | Muscatine | 4/25/97 | 3/19/98, 63 FR 13343
(34) SO2 Control Plan | Cedar Rapids | 9/11/98 | 3/11/99, 64 FR 12090
(35) PM10 Control Plan | Buffalo, Iowa | 10/1/98 | 3/18/99, 64 FR 13346
(36) CAA 110(a)(2)(D)(i) SIP—Interstate Transport | Statewide | 11/22/06 | 3/8/07, 72 FR 10380
(37) SO2 Maintenance Plan for the Second 10-year Period | Muscatine | 4/5/07 | 8/1/07; 72 FR 41900
(38) CAA 110(a)(1) and (2)—Ozone Infrastructure SIP | Statewide | 6/15/07 | 3/04/08; 73 FR 11554

[FR Doc. E9-17929 Filed 7-28-09; 8:45 am]

BILLING CODE 6560-50-P